DEPARTMENT OF JUSTICE

Office of Justice Programs

Agency Information Collection Activities: Proposed Collection; Comment Request

ACTION: Notice of information collection under review; new collection national evaluation of the safe schools/healthy students initiative.

The Department of Justice, Office of Justice Programs, Office of Juvenile Justice and Delinquency Prevention, has submitted the following information collection request to the Office of Management and Budget (OMB) for review and clearance in accordance with emergency review procedures of the Paperwork Reduction Act of 1995. OMB approval has been requested by December 22, 2000. The proposed information collection is published to obtain comments from the public and affected agencies. If granted, the emergency approval is only valid for 180 days. Comments should be directed to OMB, Office of Information Regulation Affairs, Attention: Department of Justice Desk Officer (202) 395-7860, Washington, DC 20530.

During the first 60 days of this same review period, a regular review of this information collection is also being undertaken. All comments and suggestions, or questions regarding additional information, to include obtaining a copy of the proposed information collection instrument with instructions, should be directed to Kellie J. Dressler, Program Manager, Office of Juvenile Justice and Delinquency Prevention, 810 7th Street, NW, Washington DC 20531, or facsimile at (202) 353-9096.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of Information Collection: Application for new collection effort.

(2) The Title of the Form/Collection: The National Evaluation of the Safe Schools/Healthy Students Initiative has several information collection forms, which are: District Personnel Survey, School Personnel Surveys, Classroom Teacher Survey, Teacher Rating Scale, Coalition/Partnership Survey, Key Partners Survey, Student Survey, Project Director Survey, Archival Data Collection, Economic Data Collection, Focus Group Discussion Questions for Parents and Community, Focus Group Discussion Questions for Students.

(3) The Agency Form Number, if any, and the Applicable Component of the Department Sponsoring the Collection: None; Office of Justice Programs, Office of Juvenile Justice and Delinquency Prevention.

(4) Affected Public Who Will be Asked or Required to Respond, as Well as a Brief Abstract: School personnel, which includes superintendents, principals, counselors, violence prevention and drug coordinators; 1st, 3rd, 5th, 7th, 9th, and 11th grade teachers; Coalition members; Students in grades 7, 9, and 11 (15 sites only); Project Directors; Parents (15 sites only); Community members; and Chief Financial Officers (15 sites only). 42 U.S.C. 5653 authorizes the Office of Juvenile Justice and Delinquency Prevention to collect information on all aspects of the Safe Schools/Healthy Students Initiative programs. The purposes of the surveys, coalition discussion guides, focus groups, etc. are to obtain information from the respondents that will assist in evaluating the Safe Schools/Healthy Students Initiative and contribute to the development of policies and programs that reduce violence, crime, substance use, and other risk-related behaviors and that support healthy childhood development. The survey instruments focus on the nature and scope of alcohol, tobacco, and other drug use among youth; perceptions about school safety, crime and violence; educational climate; school policies and programs; and mental health development.

(5) An Estimate of the Total Number of Respondents and the Amount of Time Estimated for an Average Respondent To Respond/Reply:

Annual Burden Estimates*
Instrument | Number of respondents | Number of responses per respondent | Average burden hours per response | Total burden hours
District Personnel Survey | 308 | 1 | 1.0 | 308
School Personnel Surveys:
Principal | 1,335 | 1 | 1.0 | 1,335
Mental Health Coord. | 1,335 | 1 | .50 | 667.5
Substance Use Prevention Coord. | 1,335 | 1 | .50 | 667.5
Violence Prevention Coord. | 1,335 | 1 | .50 | 667.5
School-level Total | 5,340 |  | 2.5 | 3,337.5
Classroom Teacher Survey | 4,252 | 1 | .50 | 2,126
Teacher Rating Scale | 1,397 | 5 | .42 | 2,933.7
Student Survey | 10,184 | 1 | .75 | 7,638
Archival Data Collection | 378 | 1 | \**\None
Coalition Survey | 1,540 | 1 | .50 | 770
Key Partners Survey | 231 | 1 | .50 | 115.5
Project Director Survey | 77 | 1 | .75 | 57.75
Economic Data Collection | 15 | 1 | 4.0 | 60
Focus Groups Questions: Parents and Community Members | 150 | 1 | 2.0 | 300
Focus Groups Questions: Students | 150 | 1 | 1.0 | 150
* All estimates are based on 77 sites except for student surveys, teacher rating scales, economic and focus groups which are drawn from the 15 Sentinel sites only.
** Data to be collected for personnel responsible for providing publicly available agency-level data; thus SS/HS data collection burden is not expected to exceed general practice.

(6) An Estimate of the Total Public Burden (in Hours) Associated With the Collection: The total burden hours for this information collection is 17,796.45 hours.

If additional information is required contact: Ms. Brenda E. Dyer, Deputy, Clearance Office, United States Department of Justice, Information Management and Security Staff Justice Management Division, Suite 1220, National Place Building, 1331 Pennsylvania Avenue, NW., Washington, DC 20530.

Dated: December 8, 2000.
Brenda E. Dyer,
Department Deputy Clearance Officer, United States Department of Justice.

[FR Doc. 00-31773 Filed 12-13-00; 8:45 am]

BILLING CODE 4410-18-P